DEPARTMENT OF LABOR

Employment and Training Administration

[TA-W-59,455]

Universal Leaf Tobacco Co.; Danville, VA; Notice of Termination of Investigation

Pursuant to Section 221 of the Trade Act of 1974, as amended, an investigation was initiated on May 24, 2006 in response to a worker petition filed on behalf of workers at Universal Leaf Tobacco Co., Danville, Virginia.

The petitioning group of workers is covered by an earlier petition (TA-W-59,370) filed on May 10, 2006 that is the subject of an ongoing investigation for which a determination has not yet been issued. Further investigation in this case would duplicate efforts and serve no purpose; therefore the investigation under this petition has been terminated.

Signed at Washington, DC, this 31st day of May 2006.
Richard Church,
Certifying Officer, Division of Trade Adjustment Assistance.

[FR Doc. E6-9993 Filed 6-23-06; 8:45 am]

BILLING CODE 4510-30-P